DEPARTMENT OF TRANSPORTATION

Office of the Secretary

[OST Docket No. OST-2006-25493]

Surface Transportation Policy & Revenue Technical Advisory Committee

AGENCY: Office of the Secretary, Department of Transportation (DOT).

ACTION: Notice of intent to form an advisory committee.

SUMMARY: Pursuant to the Safe, Accountable, Flexible, Efficient Transportation Equity Act: A Legacy for Users (SAFETEA-LU), Public Law 109-59, Aug. 10, 2005, the Secretary of Transportation is establishing a technical advisory committee to collect and evaluate technical input as directed in section 1909(b)(8) of the SAFETEA-LU. Section 1909(b) of SAFETEA-LU also established the National Surface Transportation Policy and Revenue Study Commission (Revenue Commission). The purpose of this notice is to invite interested parties, organizations, and individuals, to submit applications to be considered for representation on the technical advisory committee.

DATES: Comments and/or applications for membership or nominations for membership, or a letter of intent to submit and application or nomination, on the technical advisory committee must be received on or before August 23, 2006. If a letter of intent is submitted, the application or nomination must be received on or before September 1, 2006.

FOR FURTHER INFORMATION CONTACT: Ms. Alla C. Shaw, Attorney-Advisor, Federal Highway Administration, Office of the Chief Counsel, 202-366-1042 (alla.shaw@fhwa.dot.gov), 400 Seventh Street, SW., Room 4230, Washington, DC 20590. Office hours are from 7:30 a.m. to 5 p.m., e.t., Monday through Friday, except Federal holidays.

SUPPLEMENTARY INFORMATION:

Electronic Access

You may submit applications online through the Document Management System (DMS) at: http://dms.dot.gov/submit. The DMS is available 24 hours each day, 365 days each year. Electronic submission and retrieval help and guidelines are available under the help section of the web site. Anyone is able to search the DMS for all applications received in the docket established for this notice by the name of the individual submitting the application (or signing the application, if submitted on behalf of an association, business, labor union, etc.). You may review DOT's complete Privacy Act Statement in a Federal Register published on April 11, 2000 (70 FR 19477), or you may visit http://dms.dot.gov.

An electronic copy of this document may be downloaded from the Federal Register's home page at: http://www.archives.gov and the Government Printing Office's database at: http://www.access.gpo.gov/nara.

Background

On August 10, 2005, the President signed into law the Safe, Accountable, Flexible, Efficient Transportation Equity Act: A Legacy for Users (SAFETEA-LU) (Pub. L. 109-59, 119 Stat. 1144). Section 1909(b) of the SAFETEA-LU established the National Surface Transportation Policy and Revenue Study Commission. Within this section, Congress directed the Secretary to establish a technical advisory committee to collect and evaluate technical input from appropriate Federal, State, and local officials with responsibility for transportation; transportation and trade associations; emergency management officials; freight providers; the general public; and other entities and persons determined to be appropriate by the Secretary to ensure a diverse range of views. (SAFETEA-LU, § 1909(b)(8)). The Surface Transportation Policy and Revenue Technical Advisory Committee is necessary and in the public interest.

A. Notice Of Intent To Establish An Advisory Committee And Request For Comment: In accordance with the requirements of the Federal Advisory Committee Act (FACA, 5 U.S.C. App. 2), an agency of the Federal government cannot establish or utilize a group of people in the interest of obtaining consensus advice or recommendations unless that group is chartered as a Federal advisory committee. The purpose of this notice is to indicate the DOT's intent to create a Federal advisory committee to collect and evaluate technical input as directed in section 1909(b)(8) of the SAFETEA-LU.

B. Name Of Committee: Surface Transportation Policy and Revenue Technical Advisory Committee (STPR-TAC).

C. Purpose And Objective: The STPR-TAC will collect comments and evaluate technical information provided by stakeholders regarding the needs and financing of surface transportation as described in sections 1909(b)(5), (6), and (7). The STPR-TAC will report directly to the Secretary of Transportation. With the Secretary's approval, the TAC may assist with the work of the Revenue Commission including assisting with the collection and evaluation of technical information on the needs and financing of surface transportation as described in sections 1909(b)(5), (6), and (7) of SAFETEA-LU. With the Secretary's approval, and at the request of the Revenue Commission, the TAC, or individual TAC members, may be asked to assist with the incorporation of their work into the Revenue Commission's report to Congress. This may include drafting specific sections of the report or providing substantive technical reviews of the report, as it is prepared. The TAC may also participate in other matters closely related to the work of the Revenue Commission as approved by the Secretary.

The STPR-TAC will not exercise program management or regulatory development responsibilities and will make no decisions directly affecting the programs on which it provides advice. The STPR-TAC will provide technical advice to the Secretary of Transportation, or as directed to the Revenue Commission, from a knowledgeable and independent perspective.

D. Balanced Membership Plans: The TAC's membership shall be large enough to promote deliberations, but shall include only the number necessary to ensure the breadth and balance of expertise required to accomplish its purpose. Members of the TAC should possess the requisite skills and abilities to collect technical information and to provide meaningful advice and recommendations on the needs and financing of surface transportation as described in sections 1909(b)(5), (6), and (7).

This document gives notice of the purpose of the STPR-TAC and affords those interested working on the STPR-TAC the opportunity to submit an application to the DOT. The procedure for submitting an application is set out in paragraph E of this notice.

The DOT is aware that there are many more potential organizations and participants than there are membership opportunities on the STPR-TAC. It is very important to recognize that interested persons who are not selected for membership on the STPR-TAC can make valuable contributions to the work of the STPR-TAC. Interested persons and organizations may request to be placed on the STPR-TAC mailing list and may submit written comments to the STPR-TAC.

Advisory committee meetings must be open to the public except where closed or partially-closed, as determined proper and consistent with the exemptions of the Government in the Sunshine Act, 5 U.S.C. 552b(c). Any member of the public is welcome to attend the open STPR-TAC meetings, and, as provided in FACA, may contact and communicate with the STPR-TAC directly. Time will be set-aside during open meetings for this purpose, consistent with the STPR-TAC's need for sufficient time to complete its deliberations.

E. Applications for Membership: Each application for membership or nomination to the STPR-TAC should include:

(1) The name of the applicant or nominee and a statement of interest in the purpose and objectives of the STPR-TAC;

(2) References and a justification in support of the applicant's or nominee's unique qualifications for participation on the TAC; and

(3) A written commitment that the applicant or nominee would participate in good faith.

Every effort will be made to select STPR-TAC members who can make significant contributions to the advisory committee's efforts. A balance is needed and weight is given to a variety of factors including, but not limited to, geographical distribution, gender, minority status, organization, and expertise.

F. Duration: The STPR-TAC will terminate 2 years after the date of the filing of the STPR-TAC charter unless prior to that time the charter is extended in accordance with the FACA and other applicable requirements.

G. Notice of Establishment: After evaluating applications as a result of this Notice, the Department will issue a notice announcing the establishment and composition of the STPR-TAC.

(Authority: Section 1909(b)(8) of Pub. L. 109-59)

Issued on: July 27, 2006.
Maria Cino,
Acting Secretary of Transportation.

[FR Doc. E6-12436 Filed 8-1-06; 8:45 am]

BILLING CODE 4910-9X-P